DEPARTMENT OF TRANSPORTATION

Federal Aviation Administration

14 CFR Part 39

[Docket No. 98-ANE-66; Amendment 39-12649; AD 2002-03-08]

RIN 2120-AA64

Airworthiness Directives; Pratt & Whitney PW4000 Series Turbofan Engines, Correction

AGENCY: Federal Aviation Administration, DOT.

ACTION: Final rule, correction.

SUMMARY: This document makes a correction to Airworthiness Directive (AD) 2002-03-08, applicable to Pratt & Whitney (PW) PW4000 series turbofan engines, that was published in the Federal Register on February 15, 2002 (67 FR 7061). An engine model number was inadvertently omitted from the regulatory information. This document corrects that omission. In all other respects, the original document remains the same.

EFFECTIVE DATE: April 16, 2002.

FOR FURTHER INFORMATION CONTACT: Robert McCabe, Aerospace Engineer, Engine Certification Office, FAA, Engine and Propeller Directorate, 12 New England Executive Park, Burlington, MA 01803-5299; telephone (781) 238-7138, fax (781) 238-7199.

SUPPLEMENTARY INFORMATION: A final rule AD applicable to Pratt & Whitney (PW) Model PW4050, PW4052, PW4056, PW4060, PW4060A, PW4060C, PW4062, PW4152, PW4156, PW4156A, PW4158, PW4160, PW4460, PW4462, PW4650, PW4164, PW4168, PW4168A, PW4074, PW4074D, PW4077, PW4077D, PW4084, PW4084D, PW4090, PW4090D, and PW4098 turbofan engines, installed on but not limited to Airbus A300, A310, and A330 series, Boeing 747, 767, and 777 series, and McDonnell Douglas MD-11 series airplanes was published in the Federal Register on February 15, 2002 (67 FR 7061). This AD superseded an AD that applied to the PW4090-3 model as well. The PW4090-3 model was included in the Notice of Proposed Rulemaking and inadvertently left out of the final rule. The following correction is needed:

§ 39.13 [Corrected]

On page 7062, in the Regulatory Information, in the sixth line of the third column, the engine model applicability is corrected to read “PW4090, PW4090-3, PW4090D, and PW4098 turbofan.” Also, on page 7062, in the Regulatory Information, in the third column, the thirteenth line of paragraph (a) is corrected to read “PW4090-3, PW4090D, and PW4098 series turbofan.”

Issued in Burlington, MA, on February 25, 2002.
Thomas A. Boudreau,
Acting Manager, Engine and Propeller Directorate, Aircraft Certification Service.

[FR Doc. 02-5260 Filed 3-5-02; 8:45 am]

BILLING CODE 4910-13-U